DEPARTMENT OF ENERGY

Federal Energy Regulatory Commission

Combined Notice of Filings

Take notice that the Commission has received the following Natural Gas Pipeline Rate and Refund Report filings:

Filings Instituting Proceedings

Docket Numbers: RP11-2429-000.

Applicants: ANR Storage Company.

Description: ANR Storage Company submits tariff filing per 154.402: Annual Charge Adjustment 2011 to be effective 10/1/2011.

Filed Date: 08/26/2011.

Accession Number: 20110826-5026.

Comment Date: 5 p.m. Eastern Time on Wednesday, September 07, 2011.

Docket Numbers: RP11-2430-000.

Applicants: Blue Lake Gas Storage Company.

Description: Blue Lake Gas Storage Company submits tariff filing per 154.402: Annual Charge Adjustment 2011 to be effective 10/1/2011.

Filed Date: 08/26/2011.

Accession Number: 20110826-5028.

Comment Date: 5 p.m. Eastern Time on Wednesday, September 07, 2011.

Docket Numbers: RP11-2431-000.

Applicants: North Baja Pipeline, LLC.

Description: North Baja Pipeline, LLC submits tariff filing per 154.402: Annual Charge Adjustment 2011 to be effective 10/1/2011.

Filed Date: 08/26/2011.

Accession Number: 20110826-5029.

Comment Date: 5 p.m. Eastern Time on Wednesday, September 07, 2011.

Docket Numbers: RP11-2432-000.

Applicants: Transcontinental Gas Pipe Line Company, LLC.

Description: Transcontinental Gas Pipe Line Company, LLC submits tariff filing per 154.203: Pascagoula Expansion Project Compliance with Docket No. CP09-456-000 to be effective 9/30/2011.

Filed Date: 08/26/2011.

Accession Number: 20110826-5031.

Comment Date: 5 p.m. Eastern Time on Wednesday, September 07, 2011.

Docket Numbers: RP11-2433-000.

Applicants: Northern Border Pipeline Company.

Description: Northern Border Pipeline Company submits tariff filing per 154.402: Annual Charge Adjustment 2011 to be effective 10/1/2011.

Filed Date: 08/26/2011.

Accession Number: 20110826-5035.

Comment Date: 5 p.m. Eastern Time on Wednesday, September 07, 2011.

Docket Numbers: RP11-2434-000.

Applicants: ANR Pipeline Company.

Description: ANR Pipeline Company submits tariff filing per 154.402: Annual Charge Adjustment 2011 to be effective 10/1/2011.

Filed Date: 08/26/2011.

Accession Number: 20110826-5044.

Comment Date: 5 p.m. Eastern Time on Wednesday, September 07, 2011.

Docket Numbers: RP11-2435-000.

Applicants: Tuscarora Gas Transmission Company.

Description: Tuscarora Gas Transmission Company submits tariff filing per 154.402: Annual Charge Adjustment 2011 to be effective 10/1/2011.

Filed Date: 08/26/2011.

Accession Number: 20110826-5046.

Comment Date: 5 p.m. Eastern Time on Wednesday, September 07, 2011.

Docket Numbers: RP11-2436-000.

Applicants: Tres Palacios Gas Storage LLC.

Description: Tres Palacios Gas Storage LLC submits tariff filing per 154.402: Tres Palacios Gas Storage LLC-ACA Tariff Filing to be effective 10/1/2011.

Filed Date: 08/26/2011.

Accession Number: 20110826-5049.

Comment Date: 5 p.m. Eastern Time on Wednesday, September 07, 2011.

Docket Numbers: RP11-2437-000.

Applicants: OkTex Pipeline Company, L.L.C.

Description: OkTex Pipeline Company, L.L.C. submits tariff filing per 154.402: 2011 ACA Rate to be effective 10/1/2011.

Filed Date: 08/26/2011.

Accession Number: 20110826-5063.

Comment Date: 5 p.m. Eastern Time on Wednesday, September 07, 2011.

Docket Numbers: RP11-2438-000.

Applicants: Guardian Pipeline, L.L.C.

Description: Guardian Pipeline, L.L.C. submits tariff filing per 154.402: 2011 ACA Rate to be effective 10/1/2011.

Filed Date: 08/26/2011.

Accession Number: 20110826-5064.

Comment Date: 5 p.m. Eastern Time on Wednesday, September 07, 2011.

Docket Numbers: RP11-2439-000.

Applicants: Viking Gas Transmission Company.

Description: Viking Gas Transmission Company submits tariff filing per 154.402: 2011 ACA Rate to be effective 10/1/2011.

Filed Date: 08/26/2011.

Accession Number: 20110826-5065.

Comment Date: 5 p.m. Eastern Time on Wednesday, September 07, 2011.

Docket Numbers: RP11-2440-000.

Applicants: Midwestern Gas Transmission Company.

Description: Midwestern Gas Transmission Company submits tariff filing per 154.402: 2011 ACA Rate to be effective 10/1/2011.

Filed Date: 08/26/2011.

Accession Number: 20110826-5066.

Comment Date: 5 p.m. Eastern Time on Wednesday, September 07, 2011.

Docket Numbers: RP11-2441-000.

Applicants: Columbia Gas Transmission, LLC.

Description: Columbia Gas Transmission, LLC submits tariff filing per 154.204: ACA 2011 to be effective 10/1/2011.

Filed Date: 08/26/2011.

Accession Number: 20110826-5093.

Comment Date: 5 p.m. Eastern Time on Wednesday, September 07, 2011.

Docket Numbers: RP11-2442-000.

Applicants: Central Kentucky Transmission Company.

Description: Central Kentucky Transmission Company submits tariff filing per 154.204: ACA 2011 to be effective 10/1/2011.

Filed Date: 08/26/2011.

Accession Number: 20110826-5094.

Comment Date: 5 p.m. Eastern Time on Wednesday, September 07, 2011.

Docket Numbers: RP11-2443-000.

Applicants: Columbia Gulf Transmission Company.

Description: Columbia Gulf Transmission Company submits tariff filing per 154.204: ACA 2011 to be effective 10/1/2011.

Filed Date: 08/26/2011.

Accession Number: 20110826-5096.

Comment Date: 5 p.m. Eastern Time on Wednesday, September 07, 2011.

Docket Numbers: RP11-2444-000.

Applicants: Hardy Storage Company, LLC.

Description: Hardy Storage Company, LLC submits tariff filing per 154.204: ACA 2011 to be effective 10/1/2011.

Filed Date: 08/26/2011.

Accession Number: 20110826-5097.

Comment Date: 5 p.m. Eastern Time on Wednesday, September 07, 2011.

Docket Numbers: RP11-2445-000.

Applicants: Millennium Pipeline Company, LLC.

Description: Millennium Pipeline Company, LLC submits tariff filing per 154.204: ACA 2011 to be effective 10/1/2011.

Filed Date: 08/26/2011.

Accession Number: 20110826-5098.

Comment Date: 5 p.m. Eastern Time on Wednesday, September 07, 2011.

Docket Numbers: RP11-2446-000.

Applicants: Crossroads Pipeline Company.

Description: Crossroads Pipeline Company submits tariff filing per 154.204: ACA 2011 to be effective 10/1/2011.

Filed Date: 08/26/2011.

Accession Number: 20110826-5099.

Comment Date: 5 p.m. Eastern Time on Wednesday, September 07, 2011.

Docket Numbers: RP11-2447-000.

Applicants: El Paso Natural Gas Company.

Description: El Paso Natural Gas Company submits tariff filing per 154.204: EBB Notice Categories to be effective 10/1/2011.

Filed Date: 08/26/2011.

Accession Number: 20110826-5123.

Comment Date: 5 p.m. Eastern Time on Wednesday, September 07, 2011.

Docket Numbers: RP11-2448-000.

Applicants: Portland Natural Gas Transmission System.

Description: Portland Natural Gas Transmission System submits tariff filing per 154.402: Annual Charge Adjustment 2011 to be effective 10/1/2011.

Filed Date: 08/26/2011.

Accession Number: 20110826-5124.

Comment Date: 5 p.m. Eastern Time on Wednesday, September 07, 2011.

Docket Numbers: RP11-2449-000.

Applicants: Portland Natural Gas Transmission System.

Description: Portland Natural Gas Transmission System submits tariff filing per 154.203: RP11-1789 Compliance EnergyNorth to be effective 7/28/2011.

Filed Date: 08/26/2011.

Accession Number: 20110826-5134.

Comment Date: 5 p.m. Eastern Time on Wednesday, September 07, 2011.

Docket Numbers: RP11-2450-000.

Applicants: WestGas InterState, Inc.

Description: WestGas InterState, Inc. submits tariff filing per 154.402: 2011.08.29_WGI Annual Charge Adjustment to be effective 10/1/2011.

Filed Date: 08/29/2011.

Accession Number: 20110829-5000.

Comment Date: 5 p.m. Eastern Time on Monday, September 12, 2011.

Docket Numbers: RP11-2451-000.

Applicants: Gulf South Pipeline Company, LP.

Description: Gulf South Pipeline Company, LP submits tariff filing per 154.204: Questar K37657-7 Amendment to Negotiated Rate Agreement to be effective 8/25/2011.

Filed Date: 08/29/2011.

Accession Number: 20110829-5039.

Comment Date: 5 p.m. Eastern Time on Monday, September 12, 2011.

Any person desiring to intervene or protest in any of the above proceedings must file in accordance with Rules 211 and 214 of the Commission's Regulations (18 CFR § 385.211 and § 385.214) on or before 5 p.m. Eastern time on the specified comment date. Protests may be considered, but intervention is necessary to become a party to the proceeding.

Filings in Existing Proceedings

* * *

Docket Numbers: RP11-2420-001.

Applicants: White River Hub, LLC.

Description: White River Hub, LLC submits tariff filing per 154.205(b): Amended RP11-2420-000 ACA filing to be effective 10/1/2011.

Filed Date: 08/26/2011.

Accession Number: 20110826-5154.

Comment Date: 5 p.m. Eastern Time on Wednesday, September 07, 2011.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: August 29, 2011.
Nathaniel J. Davis, Sr.,
Deputy Secretary.

[FR Doc. 2011-22494 Filed 9-1-11; 8:45 am]

BILLING CODE 6717-01-P